SMALL BUSINESS ADMINISTRATION

Advisory Committee on Veterans Business Affairs Public Meeting

The U.S. Small Business Administration (SBA) will hold a public Advisory Committee Meeting on Veterans Business Affairs on Tuesday, April 22, 2003, from 8:30 a.m. to 5 p.m. The meeting will be held at the U.S. Small Business Administration located at 409 3rd Street, SW., 2nd Floor in the Eisenhower Conference Room and will be open to the public from 9 a.m. to 3 p.m. The purpose of this meeting is to establish the structure of the Advisory Committee on Veterans Business Affairs and to carry out its mission in accordance with the Veterans Entrepreneurship and Small Business Development Act of 1999 (Public Law 106-50). Any member of the public seeking further information concerning the meeting or who wishes to submit oral or written comments, should contact Cheryl Clark in the Office of Veterans Business Development (OVBD) at the SBA located at 409 3rd Street SW., Washington, DC 20460 or fax at (202) 205-7292. Requests for oral comments must be in writing and be received no later than noon Eastern Time on Friday, April 11, 2003.

Candace H. Stoltz,
Director of Advisory Councils, Office of Communications.

[FR Doc. 03-8401 Filed 4-4-03; 8:45 am]

BILLING CODE 8025-01-P